DEPARTMENT OF HEALTH AND HUMAN SERVICES

Agency for Toxic Substances and Disease Registry

[Program Announcement 01044]

Program To Build Capacity Among American Indian Tribes Impacted by Releases from the Hanford Nuclear Reservation; Notice of Availability of Funds

A. Purpose

The Agency for Toxic Substances and Disease Registry (ATSDR) announces the availability of fiscal year (FY) 2001 funds for a cooperative agreement program to Build Capacity among American Indian Tribal Governments impacted by releases from the Hanford Nuclear Reservation. The program addresses the “Healthy People 2010” focus areas of Environmental Health, Health Communication, Mental Health and Mental Disorders, and Public Health Infrastructure.

The purpose of the program is to address the Tribal public health issues that result from hazardous substances in the environment due to the Hanford Nuclear Reservation in the southeastern area of Washington State. The program will focus on: (1) Building Tribal environmental health capacity (2) addressing health issues from releases of hazardous substances into the environment (3) develop culturally appropriate health education materials and/or vehicles to engage Tribal community members in public health activities.

These awards are intended to enhance the Tribes ability to collaborate with ATSDR in conducting public health activities related to potential human exposures from the Hanford Nuclear Reservation. ATSDR understands that the nine Tribes eligible under this program are sovereign nations, and that each Tribe's capacities and capabilities are unique and different. To address the individual nature of Tribal issues, ATSDR is prepared to work collaboratively with each Tribe individually to develop a unique program to address each Tribe's needs.

B. Eligible Applicants

This program is directed only to the following federally recognized American Indian Tribal Governments: Coeur d'Alene Tribe; Coville Confederated Tribes; Confederated Tribes of the Umatilla Indian Reservation; Kalispel Tribe; Kootenai Tribe of Idaho; Nez Perce Tribe; Spokane Tribe; Confederated Tribes of the Warm Springs Reservation of Oregon; and Yakama Indian Nation. This announcement is limited to only these tribes due to their proximity to the site and the pre-determined air pathway emissions affecting their respective reservation.

Note: Title 2 of the United States Code, Chapter 26, Section 1611 states that an organization described in section 501(c)(4) of the Internal Revenue Code of 1986 that engages in lobbying activities is not eligible to receive Federal funds constituting an award, grant, cooperative agreement, contract, loan, or any other form.

C. Availability of Funds

Approximately $450,000 is available in FY 2001 to fund approximately 9 awards. It is expected that the average award will be $50,000. It is expected that the awards will begin on or about September 30, 2001, and will be made for a 12-month budget period within a project period of up to 5 years. Funding estimates may change.

Continuation awards within an approved project period will be made on the basis of satisfactory progress as evidenced by required reports and the availability of funds.

Use of Funds

Funds may be expended for reasonable program purposes, such as personnel, travel, supplies and services. Funds for contractual service may be requested; the primary recipient of ATSDR funds must perform a substantive role in carrying out project activities and not merely serve as a conduit for an award to another party or provide funds to an ineligible party. Equipment may be purchased with these funds; however, the equipment proposed should be appropriate and reasonable for the activity to be conducted. Equipment may be acquired only when authorized, and the application should provide a justification of need to acquire equipment, the description, and the cost of purchase versus leasing. At the completion of the project, the equipment will be returned to ATSDR.

D. Program Requirements

In order to achieve the purpose of this program, the recipient will be responsible for the activities under 1. (Recipient Activities) and ATSDR will be responsible for the activities listed under 2. (ATSDR Activities).

1. Recipient Activities

a. Review and update the needs assessment to verify knowledge, skills, and capabilities to address the health issues as a result of releases of hazardous substances into the environment from the Hanford Nuclear Reservation.

b. Develop an Environmental Health Plan (EHP) related to public health needs resulting from exposures and potential exposures to releases of hazardous substances into the environment from the Hanford Nuclear Reservation. The EHP will build Tribal capacity to address public health issues, based on the outcomes of the needs assessment. The EHP can be part of or spur the development of a Tribal Comprehensive Environmental Health Plan that addresses more general environmental health needs.

c. Based on activities in the EHP, actively engage with ATSDR in site-specific activities, including public health assessments, health consultations, community involvement, community health education, and health outcome data education.

d. Develop Tribal capacity to assist in the implementation and evaluation of health education activities for Tribal community members.

e. Develop culturally appropriate health education materials for Tribal members, community members, Tribal health and environmental professionals and paraprofessional, and other health care providers working with native communities.

f. Participate in and contribute to the Hanford Health Effects Subcommittee and Inter-Tribal Council on Hanford Health Projects.

g. Develop Tribal capacity to use toxicological databases and other databases to continue to identify toxicological issues.

h. Identify environmental health issues and tools necessary to benchmark Tribal health to be included in the EHP.

i. Review and participate in ATSDR public health assessment and consultation activities.

2. ATSDR Activities

a. Assist the recipient in developing the Environmental Health Plan to build Tribal capacity and address health issues and identified releases of hazardous materials into the environment from the Hanford Nuclear Reservation.

b. Assist in the development, implementation, and evaluation of culturally competent health education materials/activities for Tribal community members.

c. Assist in the development of community profiles using the results of the needs assessment that has been developed by the Tribe.

d. Provide support for Tribal participation in the Hanford Health Effects Subcommittee and Inter-Tribal Council on Hanford Health Projects.

e. Provide support and training to allow the Tribes to effectively interact and provide information for public health assessments and consultations. ATSDR will identify and make available appropriate training courses as resources permit.

f. Assist in the development and use of toxicological information resources.

g. Provide support for the coordination of activities between Tribal Governments and Federal and State public health agencies.

E. Application Content

Use the information in the Program Requirements, Other Requirements, and Evaluation Criteria sections to develop the application content. The application will be evaluated on the criteria listed, so it is important to follow them in laying out the program plan. The narrative should be no more than 20 double-spaced pages, printed on one side, with one inch margins, and 12 point font.

F. Submission and Deadline

Application

Submit the original and two copies of PHS 5161-1 (OMB Number 0937-0189). Forms are available in the application kit and at the following Internet address: www.cdc.gov/od/pgo/forminfor.htm.

On or before July 25, 2001, submit the application to the Grants Management Specialist identified in the “Where to Obtain Additional Information” section of this announcement.

Deadline: Applications shall be considered as meeting the deadline if they are either:

(a) Received on or before the deadline date; or

(b) Sent on or before the deadline date and received in time for submission to the independent review group. (Applicants must request a legibly dated U.S. Postal Service postmark or obtain a legibly dated receipt from a commercial carrier or U.S. Postal Service. Private metered postmarks shall not be acceptable as proof of timely mailing.)

Late Applications: Applications which do not meet the criteria in (a) or (b) above are considered late applications, will not be considered, and will be returned to the applicant.

G. Evaluation Criteria

Each application will be evaluated individually against the following criteria by an independent review group appointed by ATSDR.

Evaluations will be based on the extent to which the applicant has:

1. Developed and administered effective culturally competent measures to engage community members in environmental public health activities. Describe the ability to provide environmental health education in a timely manner in response to Tribal issues which are specific to the Hanford Nuclear Reservation. (10 Percent)

2. Described how the environmental health needs assessment that was completed under the previous cooperative agreement announcement will be used for environmental health. (10 Percent)

3. Outlined the activities to develop an Environmental Health Plan (EHP) which includes; statement of the problem, methods of analysis, implementation strategies, implementation and evaluation. Within the plan, described the environmental health needs/issues of the Tribe and explain the strategies in which the Tribe plans to resolve each need/issue. Explained the ability of the Tribe to respond to environmental health needs/issues. Specifically, demonstrated the Tribes' ability to address health issues that occur as a result of actual or potential human exposures to hazardous substances including methods to analyze and evaluate toxicological, community and environmental health data/information. Ensure the Hanford Nuclear Reservation is addressed in the EHP. (40 Percent)

4. Described the Tribes capability (or inability) to carry out the proposed EHP. Describe the technical assistance needed to develop the EHP. Explain what additional items or issues you will have to address when developing the EHP. (20 Percent)

5. Described how the Tribe will resolve current problems of exposures of hazardous substances in the environment related to the Hanford Nuclear Reservation. (20 Percent)

6. Budget Justification (Not Scored)—The budget will be evaluated for the extent to which it is reasonable, clearly justified, and consistent with the intended use of cooperative agreement funds. The applicant should describe and indicate availability of facilities and equipment necessary to carry out this project.

H. Other Requirements

Technical Reporting Requirements

Provide CDC with original plus two copies of:

1. Semi-annual reports;

2. Financial status report, no more than 90 days after the end of the budget period; and

3. Final financial and performance reports, no more than 90 days after the end of the project period.

Send all reports to the Grants Management Specialist identified in the “Where to Obtain Additional Information” section of this announcement.

The following additional requirements are applicable to this program. For a complete description of each, see Attachment I in the application kit.

AR-7 Executive Order 12372 Review

AR-9 Paperwork Reduction Act Requirements

AR-10 Smoke-Free Workplace Requirements

AR-11 Healthy People 2010

AR-12 Lobbying Restrictions

AR-18 Cost Recovery

AR-19 Third Party Agreements

I. Authority and Catalog of Federal Domestic Assistance Number

This program is authorized under section 104(i)(14)(15), and (17) of the Comprehensive Environmental Response, Compensation and Liability Act [42 U.S.C. sections 9604(i)(14)(15), and (17)], as amended. The Catalog of Federal Domestic Assistance number is 93.236.

J. Where To Obtain Additional Information

This and other ATSDR announcements can be found on the CDC home page Internet address— http://www.cdc.gov. Click on “Funding” then “Grants and Cooperative Agreements.”

To obtain business management technical assistance, contact: Nelda Godfrey, Grants Management Specialist, Grants Management Branch, Procurement and Grants Office, Centers for Disease Control and Prevention, Room 3000, 2920 Brandywine Road, Atlanta, GA 30341-4146, Telephone number: 770-488-2722, Email address: NAG9@cdc.gov.

For program technical assistance, contact: Dean Seneca, MPH, MCURP, Coordinator, Office of Tribal Affairs, Agency for Toxic Substances and Disease Registry, 1600 Clifton Road, NE (E-32), Atlanta, GA 30333, Telephone number: 404-639-4507, Email address: zkg8@cdc.gov.

Dated: May 16, 2001.
Georgi Jones,
Director, Office of Policy and External Affairs, Agency for Toxic Substances and Disease Registry.

[FR Doc. 01-12940 Filed 5-22-01; 8:45 am]

BILLING CODE 4163-70-P